DEPARTMENT OF AGRICULTURE

Office of the Secretary

7 CFR Part 9

[Docket ID: FSA-2020-0004]

RIN 0503-AA65

Coronavirus Food Assistance Program; Correction

AGENCY: Office of the Secretary, Agriculture (USDA).

ACTION: Correcting amendments.

SUMMARY: The Secretary of Agriculture implemented the Coronavirus Food Assistance Program (CFAP), which provides assistance to agricultural producers impacted by the effects of the COVID-19 outbreak, through a final rule published in the Federal Register on May 21, 2020. We were able to reevaluate the payment rates for certain specialty crops based on data that was available from industry in response to the CFAP notice of funding availability, which was published in the Federal Register on May 22, 2020. This document corrects payment rates and categories for those specialty crops that were published in the final rule. It also clarifies eligibility of aquaculture commodities and extends the CFAP application deadline for all applicants until September 11, 2020.

DATES: Effective Date: August 14, 2020.

FOR FURTHER INFORMATION CONTACT: William L. Beam; telephone: (202) 720-3175; email: Bill.Beam@usda.gov. Persons with disabilities who require alternative means for communication should contact the USDA Target Center at (202) 720-2600 (voice).

SUPPLEMENTARY INFORMATION: This rule corrects the CFAP regulations in 7 CFR part 9, which were implemented in the final rule that was published in the Federal Register on May 21, 2020 (85 FR 30825-30835). This is the third set of corrections. The first set of corrections was published in the Federal Register on June 12, 2020 (85 FR 35799-35800), and the second set of corrections was published in the Federal Register on July 10, 2020 (85 FR 41328-41330). This document augments those corrections.

In response to the notice of funding availability published in the Federal Register on May 22, 2020 (85 FR 31062-31065), a few commenters requested that USDA review data supporting price decreases for certain commodities, including several that were specified in the CFAP regulation.

Accordingly, USDA is correcting 7 CFR 9.5 to make onions, green; walnuts; and watermelons eligible for payment under 7 CFR 9.5(b)(1), and adding CARES Act payment rates for sales losses for those crops to Table 1 to § 9.5(h). We are also correcting the other rates for those crops based on our review of additional data. Additional eligible crops and changes to eligibility for crops previously announced in a notification published in the Federal Register on July 10, 2020 (85 FR 41321-41323) will be announced in a separate notification.

The addition in the payment rates and the resulting changes in the eligibility for specific types of payments per commodity will not change CFAP costs.

This rule also clarifies provisions regarding eligibility of aquaculture businesses in 7 CFR 9.5(j)(2). USDA understands that producers of molluscan shellfish and marine algae have suffered losses and we have carefully considered the other assistance that is being provided by the Federal Government. The Secretary of Commerce is providing assistance for these commodities with funding provided by section 12005 of the Coronavirus Aid, Relief, and Economic Security Act (CARES Act, Pub. L. 116-136). To avoid providing duplicate payments for the same losses, USDA has determined that CFAP will not cover those commodities. Aquaculture commodities that will be covered by CFAP will be announced in a separate notification.

In addition, 7 CFR 9.5(j)(2) is being clarified that eligibility is based on the USDA determination that the aquaculture products incurred “qualifying losses between January 15, 2020, and April 15, 2020.” Specifically, “qualifying losses” replaces “a decline in prices of 5 percent or more.”

List of Subjects in 7 CFR Part 9

Agricultural commodities, Agriculture, Disaster assistance, Indemnity payments.

Accordingly, 7 CFR part 9 is corrected by making the following correcting amendments:

PART 9—CORONAVIRUS FOOD ASSISTANCE PROGRAM

1. The authority citation for part 9 continues to read as follows:

Authority: 15 U.S.C. 714b and 714c; and Division B, Title I, Pub. L. 116-136.

§ 9.4 [Amended]

2. In § 9.4, amend paragraph (a) by removing “August 28, 2020” and adding “September 11, 2020” in its place.

3. Amend § 9.5 as follows:

a. In Table 1 to paragraph (h):

i. Remove the entry for “Onions green”;

ii. Add the entry for “Onions, green” in alphabetical order; and

iii. Revise the entries for “Walnuts” and “Watermelons”; and

b. Revise paragraph (j)(2).

The addition and revisions read as follows:

§ 9.5 Calculation of payments.

* * * * *

(h) * * *

Table 1 to Paragraph (h)—Payment Rates for Specialty Crops
[Including, but not limited to, the listed commodities]
Commodity | CARES Act payment rate for sales losses ($/lb) | CARES Act payment rate for product that left the farm but spoiled or is unpaid due to loss of marketing channel ($/lb) | CCC payment rate ($/lb)
* * * * * * *
Onions, green | $0.51 | $0.70 | $0.14
* * * * * * *
Walnuts | 0.26 | 0.34 | 0.07
Watermelons | 0.04 | 0.06 | 0.01

* * * * *

(j) * * *

(2) Producers that are privately owned aquaculture businesses growing freshwater and saltwater products in controlled environments, including raceways, ponds, tanks, and recirculating systems, extending to all farmed shrimp and salmonids (trout and salmon) are included in CFAP to the extent USDA determines individual types of the products have incurred qualifying losses between January 15, 2020, and April 15, 2020. The determination of which species are included will be specified in the NOFA referenced in paragraph (j)(1) of this section. CFAP does not provide assistance for molluscan shellfish and marine algae.

* * * * *

§ 9.7 [Amended]

4. In § 9.7, amend paragraph (h) by removing “August 28, 2020” and adding “September 11, 2020” in its place.

Stephen L. Censky,
Vice Chairman, Commodity Credit Corporation, and Deputy Secretary, U.S. Department of Agriculture.

[FR Doc. 2020-17780 Filed 8-11-20; 11:15 am]

BILLING CODE 3410-05-P